DEPARTMENT OF DEFENSE

48 CFR Parts 215 and 253

[DFARS Case 2002-D012]

Defense Federal Acquisition Regulation Supplement; Weighted Guidelines Form

AGENCY: Department of Defense (DoD).

ACTION: Final rule.

SUMMARY: DoD has issued a final rule amending the Defense Federal Acquisition Regulation Supplement (DFARS) to revise the information on DD Form 1547, Record of Weighted Guidelines Application. The revisions correspond to changes to DoD profit policy published in the Federal Register on April 26, 2002.

EFFECTIVE DATE: July 30, 2002.

FOR FURTHER INFORMATION CONTACT: Ms. Sandra Haberlin, OUSD (AT&L) DP (DAR), IMD 3C132, 3062 Defense Pentagon, Washington, DC 20301-3062. Telephone (703) 602-0289; facsimile (703) 602-0350. Please cite DFARS Case 2002-D012.

SUPPLEMENTARY INFORMATION:

A. Background

DoD published a final rule in the Federal Register on April 26, 2002 (67 FR 20688), under DFARS Case 2000-D018. That rule amended policy for computation of profit objectives by reducing the value assigned to facilities capital employed for equipment, eliminating the values assigned to facilities capital employed for buildings, increasing the values for performance risk, and adding a special factor for cost efficiency.

This final rule amends DD Form 1547, Record of Weighted Guidelines Application, and corresponding completion instructions, to reflect the changes to profit policy published on April 26, 2002.

DD Form 1547, and other forms prescribed by the DFARS, are not included in the Code of Federal Regulations. The forms are available electronically via the Internet at http://web1.whs.osd.mil/icdhome/ddeforms.htm.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2002-D012.

C. Paperwork Reduction Act

The Paperwork Reduction Act does not apply because the rule does not impose any information collection requirements that require the approval of the Office of Management and Budget under 44 U.S.C. 3501, et seq.

List of Subjects in 48 CFR Parts 215 and 253

Government procurement.

Michele P. Peterson,
Executive Editor, Defense Acquisition Regulations Council.

Therefore, 48 CFR Parts 215 and 253 are amended as follows:

1. The authority citation for 48 CFR Parts 215 and 253 continues to read as follows:

Authority: 41 U.S.C. 421 and 48 CFR Chapter 1.

PART 215—CONTRACTING BY NEGOTIATION

2. Section 215.404-71-2 is amended in paragraph (b) introductory text by revising the table to read as follows:

215.404-71-2 Performance risk.

* * * * *

(b) * * *

Item | Contractor risk factors | Assigned weighting | Assigned value | Base (item 20) | Profit objective
21 | Technical | (1) | (2) | N/A | N/A
22 | Management/Cost Control | (1) | (2) | N/A | N/A
23 | Performance Risk (Composite) | N/A | (3) | (4) | (5)

* * * * *

215.404-71-3 [Amended]

3. Section 215.404-71-3 is amended as follows:

a. In paragraph (b) introductory text, in the table, by redesignating Items 25 and 26 as Items 24 and 25, respectively;

b. In paragraph (c)(2) by removing “(Block 26)” and adding in its place “(Block 25)”; and

c. In paragraph (c)(5), in the second sentence, by removing “Block 26” and adding in its place “Block 25”.

4. Section 215.404-71-4 is amended in paragraph (b) introductory text by revising the table to read as follows:

215.404-71-4 Facilities capital employed.

* * * * *

(b) * * *

Item | Contractor facilities capital employed | Assigned value | Amount employed | Profit objective
26 | Land | N/A | (2) | N/A
27 | Buildings | N/A | (2) | N/A
28 | Equipment | (1) | (2) | (3)

* * * * *

215.404-71-5 [Amended]

5. Section 215.404-71-5 is amended in paragraph (a), in the last sentence, by adding, before the period, “(Block 29)”.

215.404-72 [Amended]

6. Section 215.404-72 is amended as follows:

a. In the heading of paragraph (b)(1), in the parenthetical, by removing “Blocks 21-24” and adding in its place “Blocks 21-23”; and

b. In the heading of paragraph (b)(2), in the parenthetical, by removing “Block 25” and adding in its place “Block 24”.

215.407-4 [Amended]

7. Section 215.407-4 is amended in paragraph (c)(1) by revising the second parenthetical to read “(http://www.dcma.hq.dla.mil/)”.

PART 253—FORMS

8. Section 253.215-70 is amended by revising paragraphs (c)(12) and (c)(15) to read as follows:

253.215-70 DD Form 1547, Record of Weighted Guidelines Application.

* * * * *

(c) * * *

(12) Block 12—use code. Enter the appropriate code for use of the weighted guidelines method—

Description | Code
Standard weighted guidelines method (215.404-71-2(c)(1)) | 2
Alternate structured approach (215.404-73) | 4
Modified weighted guidelines approach (215.404-72) | 5
Technology incentive (215.404-71-2(c)(2)) | 6

* * * * *

(15) Block 30—total profit objective. Enter the total of Blocks 23, 24, 25, 27, 28, and 29. This section is not required to be completed when using an alternate structured approach (215.404-73).

* * * * *

[FR Doc. 02-19083 Filed 7-29-02; 8:45 am]

BILLING CODE 5001-08-P